DEPARTMENT OF DEFENSE

Office of the Secretary

[Docket ID DOD-2009-OS-0176]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on January 4, 2010, unless comments are received which would result in a contrary determination.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: November 27, 2009.
Mitchell S. Bryman,
Alternate OSD Federal Register Liaison Officer, Department of Defense.

S340.10

System name:

DLA Civilian Time and Attendance, Project and Workload Records. (December 11, 2006; 71 FR 71532).

Changes:

* * * * *

Routine uses of records maintained in the system, including categories of users and the purposes of such uses:

Delete entry and replace with “In addition to those disclosures generally permitted under 5 U.S.C. 552a(b) of the Privacy Act of 1974, these records or information contained therein may specifically be disclosed outside the DoD as a routine use pursuant to 5 U.S.C. 552a(b)(3) as follows:

The DoD `Blanket Routine Uses' also apply to this system of records.”

Storage:

Delete entry and replace with “Records may be stored on paper and on electronic storage media.”

* * * * *

Notification procedure:

Delete entry and replace with “Individuals seeking to determine whether information about themselves is contained in this system of records should address written inquiries to the Privacy Act Office, Headquarters, Defense Logistics Agency, ATTN: DGA, 8725 John J. Kingman Road, Suite 1644, Fort Belvoir, VA 22060-6221 or to the Privacy Act Office in the DLA Primary Level Field Activity where employed. Official mailing addresses are published as an appendix to DLA's compilation of systems of records notices.

Inquiry should contain the subject individual's full name, User ID, return mailing address, and organizational location of employee.”

Record access procedures:

Delete entry and replace with “Individuals seeking access to information about themselves contained in this system of records should address written inquiries to the Privacy Act Office, Headquarters, Defense Logistics Agency, ATTN: DGA, 8725 John J. Kingman Road, Suite 1644, Fort Belvoir, VA 22060-6221 or to the Privacy Act Office in the DLA Primary Level Field Activity where employed. Official mailing addresses are published as an appendix to DLA's compilation of systems of records notices.

Inquiry should contain the subject individual's full name, User ID, return mailing address, and organizational location of employee.”

Contesting record procedures:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

* * * * *

S340.10

System name:

DLA Civilian Time and Attendance, Project and Workload Records.

System location:

Headquarters, Defense Logistics Agency, 8725 John J. Kingman Road, Suite 2533, Fort Belvoir, VA 22060-6221, and each Defense Logistics Agency (DLA) Primary Level Field Activity.

Official mailing addresses are published as an appendix to DLA's compilation of systems of records notices.

Categories of individuals covered by the system:

DLA civilian employees and certain former DLA civilian employees.

Categories of records in the system:

Records maintained include individual's name, Social Security Number (SSN), User ID, citizenship; pay; educational level; emergency data; employee's status, position, supervisor, timekeeper, project manager, system access level, accounting codes, organization and office location, e-mail address and office telephone numbers; telework location and phone number, rate, leave balances; work and shift schedule, project and workload records, regular and overtime work hours and leave hours, time and attendance records (timesheet), and information on temporary duty and special assignments.

Authority for maintenance of the system:

5 U.S.C. Chapter 61, Hours of Work; Chapter 53, Pay Rates and Systems; Chapter 57, Travel, Transportation, and Subsistence; and Chapter 63, Leave; 5 U.S.C. 301, Departmental Regulations; 10 U.S.C. 136, Under Secretary of Defense for Personnel and Readiness; 31 U.S.C., Chapter 35, Accounting and Collection; and E.O. 9397 (SSN), as amended.

Purpose(s):

Records are used to prepare time and attendance records, to record employee pay rates and status, including overtime, the use of leave, and work absences; to track workload, project activity for analysis and reporting purposes; for statistical reporting on leave and overtime use/usage patterns, number of employees teleworking, etc.; and to answer employee queries on leave, overtime, and pay.

Information from this system of records is provided to the Defense Finance and Accounting Service for issuing payroll to DLA civilian employees.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' also apply to this system of records.

Policies and practices for storing, retrieving, accessing, retaining, and disposing of records in the system:

Storage:

Records may be stored on paper and on electronic storage media.

Retrievability:

Records are retrieved by employee's name, Social Security Number (SSN), or User ID.

Safeguards:

Records are maintained in a controlled facility. Physical entry is restricted by the use of locks, guards, and is accessible only to authorized personnel. Access to computerized data is restricted by passwords, which are changed periodically. Access to record is limited to person(s) responsible for servicing the records in the performance of their official duties and who are properly screened and cleared for need-to-know. All individuals granted access to this system of records are required to have Information Assurance and Privacy Act training.

Retention and disposal:

Initialed Leave Application Files (LAF) are destroyed at end of following pay period, un-initialed LAFs are destroyed after GAO audit or when 3 years old, whichever is sooner. Time and Attendance Source Records and Input Records are destroyed after GAO audit or when 6 years old, whichever is sooner. Leave Records are destroyed when 3 years old. Payroll system reports and data used for personnel management purposes are destroyed when 2 years old.

Disposition is pending for project and workload records. Until the National Archives and Records Administration approves the retention, treat “project and workload records” as permanent.

System manager(s) and address:

EAGLE Project Manager, J6-UT Tailored Logistics Division, Defense Logistics Agency, 2001 Mission Drive, Suite 2, New Cumberland, PA 17070-5004. For a list of system managers at the DLA Primary Level Field Activities, write to the EAGLE Project Manager.

Notification procedure:

Individuals seeking to determine whether information about themselves is contained in this system of records should address written inquiries to the Privacy Act Office, Headquarters, Defense Logistics Agency, ATTN: DGA, 8725 John J. Kingman Road, Suite 1644, Fort Belvoir, VA 22060-6221 or to the Privacy Act Office in the DLA Primary Level Field Activity where employed. Official mailing addresses are published as an appendix to DLA's compilation of systems of records notices.

Inquiry should contain the subject individual's full name, User ID, return mailing address, and organizational location of employee.

Record access procedures:

Individuals seeking access to information about themselves contained in this system of records should address written inquiries to the Privacy Act Office, Headquarters, Defense Logistics Agency, ATTN: DGA, 8725 John J. Kingman Road, Suite 1644, Fort Belvoir, VA 22060-6221 or to the Privacy Act Office in the DLA Primary Level Field Activity where employed. Official mailing addresses are published as an appendix to DLA's compilation of systems of records notices.

Inquiry should contain the subject individual's full name, User ID, return mailing address, and organizational location of employee.

Contesting record procedures:

The DLA rules for accessing records, for contesting contents, and appealing initial agency determinations are contained in 32 CFR part 323, or may be obtained from the Privacy Act Office, Headquarters, Defense Logistics Agency, ATTN: DGA 8725 John J. Kingman Road, Suite 1644, Fort Belvoir, VA 22060-6221.

Record source categories:

Subject individuals, supervisors, timekeepers, leave slips, payroll office and payroll records, including automated payroll systems.

Exemptions claimed for the system:

None.

[FR Doc. E9-28812 Filed 12-1-09; 8:45 am]

BILLING CODE 5001-06-P